ENVIRONMENTAL PROTECTION AGENCY

[EPA-HQ-OECA-2013-0321; FRL-9960-46-OEI]

Information Collection Request Submitted to OMB for Review and Approval; Comment Request; NSPS for Sewage Sludge Incineration Units (Renewal)

AGENCY: Environmental Protection Agency (EPA).

ACTION: Notice.

SUMMARY: The Environmental Protection Agency has submitted an information collection request (ICR) to the Office of Management and Budget (OMB) for review and approval in accordance with the Paperwork Reduction Act. This is a proposed extension of an existing ICR, which is currently approved through March 31, 2017. Public comments were previously requested via the Federal Register on May 3, 2016 during a 60-day comment period. This notice allows for an additional 30 days for public comments. A fuller description of the ICR is given below, including its estimated burden and cost to the public. An Agency may neither conduct nor sponsor, and a person is not required to respond to, a collection of information unless it displays a currently-valid OMB control number.

DATES: Additional comments may be submitted on or before May 1, 2017.

ADDRESSES: Submit your comments, referencing Docket ID Number EPA HQ-OECA-2013-0321, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: The Environmental Protection Agency has submitted an information collection request (ICR), “NSPS for VOC Emissions from Petroleum Refinery Wastewater Systems (40 CFR part 60, subpart QQQ) (Renewal)” (EPA ICR No. 1136.12, OMB Control No. 2060-0172), to the Office of Management and Budget (OMB) for review and approval in accordance with the Paperwork Reduction Act (44 U.S.C. 3501 et seq.). This is a proposed extension of the ICR, which is currently approved through March 31, 2017. Public comments were previously requested via the Federal Register (81 FR 26546) on May 3, 2016 during a 60-day comment period. This notice allows for an additional 30 days for public comments.

Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: The NSPS for Sewage Sludge Incineration (SSI) Units at Subpart LLLL fulfill the requirements of Sections 111 and 129 of the Clean Air Act (CAA), which require EPA to promulgate NSPS for solid waste incineration units. The information collection activities required by the NSPS include: Siting requirements, operator training and qualification requirements, testing, monitoring and reporting requirements, one-time and periodic reports, and the maintenance of records. These activities will enable the Designated Administrator to determine initial compliance with the emission limits for the regulated pollutants, monitor compliance with operating parameters, and ensure that facilities conduct the proper planning and operator training.

Form Numbers: None.

Respondents/affected entities: Owners or operators of sewage sludge incineration units.

Respondent's obligation to respond: Mandatory (40 CFR part 60, subpart LLLL)

Estimated number of respondents: 5 (total).

Frequency of response: Initially, occasionally, semiannually, and annually.

Total estimated burden: 1,270 hours (per year). Burden is defined at 5 CFR 1320.3(b).

Total estimated cost: $694,000 for both annualized capital/startup and operation & maintenance costs.

Changes in the Estimates: There is an adjustment increase in the total estimated burden from the most-recently approved ICR. The increase primarily results from an increase in the number of sources, as this ICR is updated to reflect the total number of SSI units subject to Subpart LLLL based on EPA's 2016 SSI inventory. In addition, this ICR makes several corrections to the number of reports and reporting frequency to ensure consistency in calculating the respondent labor hours, Agency labor hours, and the total number of responses.

Courtney Kerwin,
Director, Collection Strategies Division.

[FR Doc. 2017-06322 Filed 3-30-17; 8:45 am]

BILLING CODE 6560-50-P